DEPARTMENT OF AGRICULTURE

Forest Service

Plumas National Forest, California; Empire Vegetation Management Project

AGENCY: Forest Service, USDA.

ACTION: Notice of intent to prepare an Environmental Impact Statement.

SUMMARY: The USDA Forest Service Plumas National Forest will prepare an Environmental Impact Statement (EIS) on a proposal to construct a Defensible Fuel Profile Zone (DFPZ), harvest trees using group-selection and individual tree selection silvicultural methods, and perform associated road-system improvement work in forested areas of public land northeast of Quincy, California.

DATES: Comments concerning the scope of the analysis must be received within 30 days of the date of publication of this Notice of Intent in the Federal Register. The draft EIS is expected in April 2005 and the final EIS is expected in July 2005.

ADDRESSES: Send written comments to James M. Peña, Plumas National Forest, PO Box 11500, Quincy, CA 95971. Fax: (530) 283-7746. Electronic comments should be sent to: comments-pacificsouthwest-plumas@fs.fed.us.

FOR FURTHER INFORMATION CONTACT: Gary Rotta, Interdisciplinary Team Leader, Mt. Hough Ranger District, telephone (530) 283-7687.

SUPPLEMENTARY INFORMATION:

Tentative or Preliminary Issues and Possible Alternatives

In June 2004, James M. Peña solicited public comment for the Empire Vegetation Management Project proposed action. Comments received during that initial scoping period will be considered in this analysis. Substantial questions regarding the potential environmental effects of the original proposed action have prompted the preparation of an Environmental Impact Statement (EIS). All action alternatives will need to respond to the specific condition of providing benefits equal to or better than the current condition. Other alternatives may be developed based on significant issues identified during the scoping process for this EIS. Alternatives being considered at this time include: (A) The Proposed Action and (B) No Action, as well as possible alternatives that consider watershed concerns, fuel treatments that allow for continuity of wildlife habitat, increased economical efficiency, density of group selection harvest units and how it affects continuous forest cover and edge effect.

The proposed action is designed to meet the standards and guidelines for land management activities in the Plumas National Forest Land and Resource Management Plan (1988) (LRMP) as amended by the Record of Decision for the Herger-Feinstein Quincy Library Group Forest Recovery Act (1999) (HFQLG), and as amended by the Record of Decision for the Sierra Nevada Forest Plan Amendment (2004).

The proposed action is located in Plumas County, California, within the Mt. Hough Ranger District of the Plumas National Forest in all or portions of Section 1, T23N, R9E; Section 6, T23N, R10E; Sections 4 & 8, T23N, R11E; Sections 1-6, 8-12, 13-16, 22-26, 31, and 32, T24N, R10E; Sections 5-8, 15, 17, 21-28, and 33-35, T24N, R11E; Sections 1, 10-12, 13, 14, 21-28, 33-34, and 26, T25N, R9E; Sections 6-8 and 14-35, T25N, R10E; Sections 19, 29, 30, 31, and 32, T25N, R11E, MDM.

Purpose and Need for Action

The need for and purpose of the project has three elements: (1) To implement fuel reduction in the Wildland Urban Interface (WUI) and, as part of the larger HFQLG fuel treatment strategic network as called for by the HFQLG Act (section 401[b][1] and [d][1]) and the HFQLG amendment to the LRMP, to reduce the potential size and intensity of wildfires and provide fire suppression personnel safe locations for taking action against wildfires; (2) to implement group selection and individual tree selection, as directed in the HFQLG Act (section 401[b][1] and [d][2]) and the HFQLG amendment of the LRMP, to test the effectiveness of an uneven-aged silvicultural system in achieving an all-aged, multistory, fire resilient forest, providing an adequate timber supply that contributes to the economic stability of rural communities, and improving and maintaining ecological health of the forest; and (3) to reduce impacts of the transportation system on forest resources and provide the necessary access for the fuel treatments and the group and individual tree selection harvests.

Proposed Action

The assessment area for the project is about 103,000 acres. The project is composed of four actions: (1) Fuel treatments; (2) group selection timber harvest; (3) individual tree selection harvest; and (4) transportation system improvement. Fuel treatments would consist of construction of defensible fuel profile zones (DFPZs) and other areas of hazardous fuel reduction around communities, totaling about 6,600 acres. Group selection timber harvest as part of the HFQLG pilot project would be conducted on about 1,300 acres. Individual tree selection harvests would take place over about 4,000 acres surrounding the group selection units, with a focus on dead or dying trees, those at high risk or of poor genetic quality, and crowded stands. To provide access for the project and reduce impacts of the existing road system on key resources, about three miles of new system roads would be constructed and closed after use; six miles of temporary roads would be constructed and decommissioned after use; 17 miles of existing roads would be closed; 15 miles of existing roads would be permanently decommissioned; and 117 miles of existing roads would be reconstructed to sustain project use and reduce water quality impacts.

Lead Agency

The USDA Forest Service is the lead agency for this proposal.

Responsible Official

Plumas National Forest Supervisor James M. Peña is the responsible official. Plumas National Forest, PO Box 11500, Quincy, CA 95971.

Nature of Decision To Be Made

Forest Supervisor James M. Peña will decide whether to implement the Empire Project as proposed and described above, implement the project based on an alternative to this proposal that is formulated to resolve identified conflicts, or not implement this project at this time.

Scoping Process

Public questions and comments regarding this proposal are an integral part of this environmental analysis process. Comments will be used to identify issues and develop alternatives to the proposed action. To assist the Forest Service in identifying and considering issues and concerns on the proposed action, comments should be as specific as possible.

A copy of the Proposed Action and/or summary of the Proposed Action will be mailed to adjacent landowners, as well as those people and organizations that have indicated a specific interest in the Empire project, individuals who attended the two open houses held prior to the development of a landscape assessment for the watersheds surrounding the project, people who sent in previous comments, to Native American entities, and federal, state, and local agencies. The public will be notified of any meetings regarding this proposal by mailings and press releases sent to the local newspaper and media. There are no meetings planned at this time.

Permits or Licenses Required

An Air Pollution Permit and a Smoke Management Plan are required by local agencies.

Comment

This notice of intent initiates the scoping process which guides the development of the environmental impact statement under NEPA, which will guide development of the EIS. Our desire is to receive substantive comments on the merits of the Proposed Action, as well as comments that address errors, misinformation, or information that has been omitted. Substantive comments are defined as comments within the scope of the proposal, that have a direct relationship to the proposal, and that include supporting reasons for the Responsible Official's consideration.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental statements must structure their participation in the environmental review of the proposal so that it is meaningful and alerts an agency to the reviewer's position and contentions. Vermont Yankee Nuclear Power Corp v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regualtions for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)
Dated: February 3, 2005.
Terri Simon-Jackson,
Acting Forest Supervisor.

[FR Doc. 05-2494 Filed 2-8-05; 8:45 am]

BILLING CODE 3410-11-M